NATIONAL SCIENCE FOUNDATION

Notice of Intent To Seek Approval To Extend an Information Collection

AGENCY: National Science Foundation (NSF).

ACTION: Notice and request for comments.

SUMMARY: The National Science Foundation (NSF) is announcing plans to request clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than three years.

DATES: Written comments on this notice must be received by November 21, 2005 to be assured of consideration. Comments received after that date will be considered to the extent practicable.

FOR FURTHER INFORMATION CONTACT: Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m. (eastern time) Monday through Friday. You also may obtain a copy of the data collection instrument and instructions from Ms. Plimpton.

SUPPLEMENTARY INFORMATION: Title of Collection: Grantee Reporting Requirements for Science and Technology Centers (STC): Integrative Partnerships.

OMB Number: 3145-0194.

Expiration Date of Approval: January 31, 2006.

Type of Request: Intent to seek approval to extend an information collection.

Abstract: The National Science Foundation (NSF) requests extension of data collection (annual reports) called “Grantee Reporting Requirements for Science and Technology Centers (STC): Integrative Partnerships”. The current data collection, designed to measure the Science and Technology Centers' progress and plans, had been approved for use through January 2006. The annual reports have proven an effective means for efficiently gathering data from Centers. The data gathered through the annual reports under the current OMB approval has been used in making decisions about continued funding of individual Centers. In addition, a database of Centers' characteristics, activities, and outcomes has been created using data from these annual reports.

The Science and Technology Centers (STC): Integrative Partnerships Program supports innovation in the integrative conduct of research, education and knowledge transfer. Science and Technology Centers build intellectual and physical infrastructure within and between disciplines, weaving together knowledge creation, knowledge integration, and knowledge transfer. STCs conduct world-class research through partnerships of academic institutions, national laboratories, industrial organizations, and/or other public/private entities. Thus, new knowledge created is meaningfully linked to society.

In addition, STCs enable and foster excellence in education, the integration of research and education, and the creation of bonds between learning and inquiry so that discovery and creativity more fully support the learning process. STCs capitalize on diversity through participation in Center activities and demonstrate leadership in the involvement of groups underrepresented in science and engineering.

All Centers will be required to submit annual reports on progress and plans that are used as a basis for performance review and determining the level of continued funding. This continues the practice established under the previously approved data collection. To support this review and the management of a Center, new STCs are required to develop a set of management and performance indicators (continuing Centers have already developed these indicators). These indicators are submitted annually to NSF via FastLane. These indicators are both quantitative and descriptive and include, for example, the characteristics of Center personnel and students; sources of financial support and in-kind support; expenditures by operational component; characteristics of industrial and/or other sector participation; research activities; education activities; knowledge transfer activities; patents and licenses; publications; degrees granted to students involved in Center activities; descriptions of significant advances and other outcomes of the STCs' efforts. The reporting will be added to the STC program database that has been compiled by an NSF evaluation technical assistance contractor to support decisions for continued funding of the Centers and will be made available for the 2007 program evaluation. This database captures specific information that demonstrates progress towards achieving the goals of the individual Centers and the goals of the program. Such reporting requirements are included in the cooperative agreement that is binding between the academic institution and the NSF.

Each Center's annual report provides information about the following categories of activities: (1) Research, (2) education, (3) knowledge transfer, (4) partnerships, (5) diversity, (6) management, and (7) budget issues.

For each of the categories the report describes overall objectives for the year, problems the Center has encountered in making progress towards goals for the year, specific outputs and outcomes for the year, and expected accomplishments and anticipated problems in the coming year.

Use of the Information: NSF will use the information to make decisions on continued funding for the Centers, to evaluate the yearly progress of the program and to inform the upcoming 2007 Program Evaluation. The data will be analyzed to evaluate progress towards specific goals of the STC program.

Estimate of Burden: For the first year of this data collection, the time estimate for the 11 continuing Centers is a total of 550 hours. The time estimate for the 2 newly funded Centers and the anticipated 4 additional Centers is a total of 600 hours. In subsequent years of the data collection, the time estimate is a total of 850 hours for the 17 Centers (the 11 established Centers, the 2 newly funded Centers, and the anticipated 4 additional Centers).

Respondents: Non-profit institutions; Federal Government.

Estimated Number of Responses per Report: One from each of the 13 funded Centers and 4 anticipated Centers.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: September 15, 2005.
Suzanne H. Plimpton,
Reports Clearance Officer, National Science Foundation.

[FR Doc. 05-18680 Filed 9-19-05; 8:45 am]

BILLING CODE 7555-01-M